DEPARTMENT OF THE INTERIOR

Bureau of Reclamation

Environmental Water Account, San Francisco Bay/Sacramento-San Joaquin Delta, California

AGENCY: Bureau of Reclamation, Interior.

ACTION: Notice of Availability of the Final Environmental Impact Statement/Environmental Impact Report (EIS/EIR).

SUMMARY: Pursuant to the National Environmental Policy Act (NEPA) and the California Environmental Quality Act (CEQA), the Bureau of Reclamation (Reclamation) and the California Department of Water Resources (DWR) have prepared a Final EIS/EIR for the Environmental Water Account (EWA).

The purpose of the EWA is to provide water for the protection and recovery of at-risk native fish species beyond the amount of water available from existing regulatory actions related to State Water Project/Central Valley Project operations.

The Notice of Availability of the Draft EIS/EIR was published in the Federal Register on Wednesday, July 16, 2003, (66 FR 42130). The written comment period on the Draft EIS/EIR ended Monday, September 15, 2003. The Final EIS/EIR contains responses to all comments received and changes made to the text of the Draft EIS/EIR as a result of those comments and any additional information received during the review period.

DATES: Reclamation will not make a decision on the proposed action until at least 30 days after release of the Final EIS/EIR. After the 30-day waiting period, Reclamation will complete a Record of Decision (ROD). The ROD will state the action that will be implemented and will discuss all factors leading to the decision.

ADDRESSES: A compact disc of the Final EIS/EIR may be requested from Ms. Sammie Cervantes, Bureau of Reclamation, 2800 Cottage Way, Sacramento, CA 95825, or by calling 916-978-5104, TDD 916-978-5608, or by e-mail at scervantes@mp.usbr.gov. The Final EIS/EIR is accessible at the following Web sites: http://www.mp.usbr.gov or http://www.dwr.water.ca.gov.

See Supplemental Information section for locations where a compact disc of the Final EIS/EIR is available for review.

FOR FUTHER INFORMATION CONTACT: Ms. Sammie Cervantes, Bureau of Reclamation, at 916-978-5104, TDD 916-978-5608, or by e-mail at scervantes@mp.usbr.gov; or Ms. Delores Brown, DWR, at 916-227-2407, or by e-mail at delores@water.ca.gov.

SUPPLEMENTARY INFORMATION: The EWA is a cooperative management program, the purpose of which is to provide protection to the at-risk native fish species of the Bay-Delta estuary through environmentally beneficial changes in SWP and CVP operations at no uncompensated water cost to the projects' water users. This approach to fish protection requires the acquisition of alternative sources of water supply, called EWA assets, that allow export pumping in the Sacramento-San Joaquin Delta to be modified to provide fishery benefits while also replacing the regular project water supply that otherwise might be interrupted or lost because of the changes to project operations. EWA assets may also be used to augment streamflows and Delta outflow.

Public workshops to discuss the purpose and content of the Draft EIS/EIR were held on the following dates and locations: Wednesday, July 16, 2003, in San Diego, CA; Monday, July 21, 2003, in Red Bluff, CA; Tuesday, July 22, 2003, in Fresno, CA; Wednesday, July 23, 2003, in Tracy, CA; and Tuesday, July 29, 2003, in Sacramento, CA. Public hearings were held on Monday, August 25, 2003, in Sacramento, CA; Tuesday, August 26, 2003, in Red Bluff, CA; and Thursday, August 28, 2003, in Fresno, CA.

A compact disc of the Final EIS/EIR is available for review at the following locations:

• Department of Water Resources, Division of Environmental Services, 3251 S Street, Sacramento, CA 95816;

• Bureau of Reclamation, Public Affairs Office, 2800 Cottage Way, Sacramento, CA 95825;

• California Bay-Delta Authority, 650 Capitol Mall, 5th Floor, Sacramento, CA 95812;

• Bureau of Reclamation, Denver Office Library, Building 67, Room 167, Denver Federal Center, 6th and Kipling, Denver, CO 80225, 303-445-2072;

• Natural Resources Library, U.S. Department of the Interior, 1849 C Street, NW., Main Interior Building, Washington, DC 20240-0001; and

• At various county libraries, contact Sammie Cervantes at 916-978-5104, TDD 916-978-5608, for specific locations.

It is Reclamation's practice to publicly disclose respondents' comments, including names and addresses. Respondents may request that their address be withheld from disclosure; this will be honored to the extent allowable by law. There may also be circumstances in which a respondent's identity may be withheld from disclosure; again, this will be honored to the extent allowable by law. If you wish us to withhold your name and/or address, you must state this prominently at the beginning of your comment. All submissions from organizations or businesses will be publicly disclosed in their entirety.

Dated: January 14, 2004.
John F. Davis,
Deputy Regional Director, Mid-Pacific Region.

[FR Doc. 04-1553 Filed 1-23-04; 8:45 am]

BILLING CODE 4310-MN-P